DEPARTMENT OF TRANSPORTATION

Federal Aviation Administration

14 CFR Part 39

[Docket No. FAA-2005-22972; Directorate Identifier 2003-NM-265-AD; Amendment 39-14376; AD 2005-23-18]

RIN 2120-AA64

Airworthiness Directives; Fokker Model F27 Mark 050 Airplanes

AGENCY: Federal Aviation Administration (FAA), Department of Transportation (DOT).

ACTION: Final rule; request for comments.

SUMMARY: The FAA is adopting a new airworthiness directive (AD) for all Fokker Model F27 Mark 050 airplanes. This AD requires a one-time inspection of the bleed air supply ducts to determine if blanking plugs are present and a one-time inspection of the entire area of the engine nacelle for heat damage; and corrective actions if necessary. This AD also requires replacement of the blanking plugs with clamping devices. This AD results from heat damage in areas adjacent to the bleed air supply duct assembly. We are issuing this AD to prevent rupture of the bleed air supply duct, which could lead to hot bleed air leaking into the engine controls area and result in heat damage to control cables, electrical wiring, hydraulic components, and fuel lines, and consequent fire.

DATES: This AD becomes effective December 1, 2005.

The Director of the Federal Register approved the incorporation by reference of a certain publication listed in the AD as of December 1, 2005.

We must receive comments on this AD by January 17, 2006.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Fokker Services B.V., P.O. Box 231, 2150 AE Nieuw-Vennep, the Netherlands, for service information identified in this AD.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION:

Discussion

The Civil Aviation Authority—The Netherlands (CAA-NL), which is the airworthiness authority for the Netherlands, notified us that an unsafe condition may exist on all Fokker Model F27 Mark 050 airplanes. The CAA-NL advises that an operator found heat damage in areas adjacent to the bleed air supply duct assembly while inspecting for hydraulic leakage in the engine controls area on a Model F27 Mark 050 airplane. The same operator also found a second airplane with heat damage after inspecting its remaining fleet. Further investigation revealed that the inner wall of the bleed air supply duct was ruptured, which caused bleed air to escape and blow out the three blanking plugs that are fitted on the outer wall of the bleed air supply duct. As a result, hot bleed air vented into the engine controls area through the holes in the outer wall (created by the blown out blanking plugs) of the bleed air supply duct. This condition, if not corrected, could result in heat damage to control cables, electrical wiring, hydraulic components, and fuel lines, and consequent fire.

Relevant Service Information

Fokker Services B.V. has issued Service Bulletin SBF50-36-006, dated October 1, 2001. The service bulletin describes the procedures for inspecting zones 431 and 441 of the engine controls area to determine if the blanking plugs are installed in place on the outer ducts of the bleed air supply duct assemblies and doing corrective actions if necessary. The corrective actions include the following:

• If the blanking plugs are missing and bleed air loss is evident (i.e., the bleed air supply duct has burned spots, discoloration, or deformation), visually inspecting the components adjacent to the bleed air supply duct assemblies for heat damage (part C of the accomplishment instructions) and replacing the blanking plugs of the bleed air supply duct with clamping devices (part D of the accomplishment instructions).

• If bleed air loss is not evident, replacing the blanking plugs of the bleed air supply duct with clamping devices.

• If there is leakage from the bleed air supply duct due to a ruptured inner duct, replacing the bleed air supply duct assembly with a serviceable bleed air supply duct assembly (i.e, one that has had the blanking plugs replaced with clamping devices).

• If there is a loss of corrosion-preventing compound from the engine control cables, cleaning the cables, inspecting for discoloration, and applying the corrosion-preventing compound.

• If advice is needed for repairing heat damage to a component, wiring, or structures, contacting the manufacturer for additional instructions.

Accomplishing the actions specified in the service information is intended to adequately address the unsafe condition. The CAA-NL mandated the service information and issued Dutch airworthiness directive 2001-130, dated October 31, 2001, to ensure the continued airworthiness of these airplanes in the Netherlands.

FAA's Determination and Requirements of This AD

This airplane models is manufactured in the Netherlands and is type certificated for operation in the United States under the provisions of section 21.29 of the Federal Aviation Regulations (14 CFR 21.29) and the applicable bilateral airworthiness agreement. Pursuant to this bilateral airworthiness agreement, the CAA-NL has kept the FAA informed of the situation described above. We have examined the CAA-NL's findings, evaluated all pertinent information, and determined that we need to issue an AD for products of this type design that are certificated for operation in the United States.

Therefore, we are issuing this AD to prevent rupture of the bleed air supply duct, which could lead to hot bleed air leaking into the engine controls area and result in heat damage to control cables, electrical wiring, hydraulic components, and fuel lines, and consequent fire. This AD requires accomplishing the actions specified in the service information described previously, except as discussed under “Difference Between the AD and Service Bulletin.”

Difference Between the AD and Service Bulletin

The service bulletin specifies to contact the manufacturer for instructions on how to repair certain conditions, but this AD would require repairing those conditions using a method that we or the CAA-NL (or its delegated agent) approve. In light of the type of repair that would be required to address the unsafe condition, and consistent with existing bilateral airworthiness agreements, we have determined that, for this AD, a repair we or the CAA-NL approve would be acceptable for compliance with this AD.

Clarification of Inspection Terminology

The inspection and “visual inspection” specified in the Fokker service bulletin is referred to as a “general visual inspection” in this AD. We have included the definition for a general visual inspection in a note in this AD.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future.

If an affected airplane is imported and placed on the U.S. Register in the future, the required actions would take about 3 work hours per airplane, at an average labor rate of $65 per work hour. Based on these figures, the estimated cost of the AD would be $195 per airplane.

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements that affect flight safety and was not preceded by notice and an opportunity for public comment; however, we invite you to submit any relevant written data, views, or arguments regarding this AD. Send your comments to an address listed in the ADDRESSES section. Include “Docket No. FAA-2005-22972; Directorate Identifier 2003-NM-265-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-23-18 Fokker Services B.V.: Amendment 39-14376. Docket No. FAA-2005-22972; Directorate Identifier 2003-NM-265-AD.

Effective Date

(a) This AD becomes effective December 1, 2005.

Affected ADs

(b) None.

Applicability

(c) This AD applies to all Fokker Model F27 Mark 050 airplanes, certificated in any category.

Unsafe Condition

(d) This AD results from heat damage in areas adjacent to the bleed air supply duct assembly. We are issuing this AD to prevent rupture of the bleed air supply duct, which could lead to hot bleed air leaking into the engine controls area and result in heat damage to control cables, electrical wiring, hydraulic components, and fuel lines, and consequent fire.

Compliance

(e) You are responsible for having the actions required by this AD performed within the compliance times specified, unless the actions have already been done.

General Visual Inspection

(f) At the applicable compliance time specified in paragraph (f)(1) or (f)(2) of this AD, do a general visual inspection of the bleed air supply to determine if blanking plugs are present and a general visual inspection of the entire area of the engine nacelle for any heat damage, and do any corrective actions as applicable, by accomplishing all of the applicable actions specified in parts B and C of the Accomplishment Instructions of Fokker Service Bulletin SBF50-36-006, dated October 1, 2001; except as provided by paragraph (g) of this AD. Any corrective actions must be done before further flight.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

(1) For airplanes that have accumulated 20,000 total flight hours or more as of the effective date of this AD: Within 6 months after the effective date of this AD.

(2) For airplanes that have accumulated less than 20,000 total flight hours as of the effective date of this AD: Within 12 months after the effective date of this AD.

(g) If, during accomplishment of the corrective actions required by paragraph (f) of this AD, the service bulletin requires contacting the manufacturer for instructions on repairing heat damage to a component, wiring, or structure: Before further flight, repair according to a method approved by either the Manager, International Branch, ANM-116, FAA, Transport Airplane Directorate; or the Civil Aviation Authority—The Netherlands (or its delegated agent).

Modification

(h) Before further flight after accomplishing the inspection required by paragraph (f) of this AD: Replace the blanking plugs of the bleed air supply ducts with clamping devices, in accordance with Part D of the Accomplishment Instructions of Fokker Service Bulletin SBF50-36-006, dated October 1, 2001.

Alternative Methods of Compliance (AMOCs)

(i)(1) The Manager, International Branch, ANM-116, Transport Airplane Directorate, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(j) Dutch airworthiness directive 2001-130, dated October 31, 2001, also addresses the subject of this AD.

Material Incorporated by Reference

(k) You must use Fokker Service Bulletin SBF50-36-006, dated October 1, 2001, to perform the actions that are required by this AD, unless the AD specifies otherwise. The Director of the Federal Register approved the incorporation by reference of this document in accordance with 5 U.S.C. 552(a) and 1 CFR part 51. Contact Fokker Services B.V., P.O. Box 231, 2150 AE Nieuw-Vennep, the Netherlands, for a copy of this service information. You may review copies at the Docket Management Facility, U.S. Department of Transportation, 400 Seventh Street, SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on November 7, 2005.
Kalene C. Yanamura,
Acting Manager, Transport Airplane Directorate, Aircraft Certification Service.

[FR Doc. 05-22589 Filed 11-15-05; 8:45 am]

BILLING CODE 4910-13-P